DEPARTMENT OF EDUCATION

Office of Postsecondary Education; Overview Information; Minority Science and Engineering Improvement Program (MSEIP); Notice Inviting Applications for New Awards for Fiscal Year (FY) 2009

Catalog of Federal Domestic Assistance (CFDA) Number: 84.120A.

Dates:

Applications Available: April 1, 2009.

Deadline for Transmittal of Applications: May 1, 2009.

Deadline for Intergovernmental Review: June 30, 2009.

Full Text of Announcement

I. Funding Opportunity Description

Purpose of Program: The MSEIP is designed to effect long-range improvement in science and engineering education at predominantly minority institutions and to increase the flow of underrepresented ethnic minorities, particularly minority women, into scientific and technological careers.

Priorities: In accordance with 34 CFR 75.105(b)(2)(iv), these priorities are from allowable activities specified in section 352 of the Higher Education Act of 1965, as amended (HEA) (20 U.S.C. 1067b(b)).

Competitive Preference Priorities: For FY 2009, three priorities are competitive preference priorities based on 34 CFR 637.31(c). Under 34 CFR 75.105(c)(2)(i) we award an additional five (5) points to an application that meets Competitive Preference Priority 1. Under 34 CFR 75.105(c)(2)(ii) we give preference to an application that meets Competitive Preference Priority 2 and Competitive Preference Priority 3 over an application of comparable merit that does not meet these priorities.

These priorities are:

Competitive Preference Priority 1. Applications from institutions that have not received a MSEIP grant within five years prior to this competition.

Competitive Preference Priority 2. Applications from previous grantees with a proven record of success.

Competitive Preference Priority 3. Applications that contribute to achieving balance among funded projects with respect to—(a) geographic region; (b) academic discipline; and (c) project type.

Invitational Priorities: For FY 2009, three priorities are invitational priorities. Under 34 CFR 75.105(c)(1) we do not give an application that meets these invitational priorities a competitive or absolute preference over other applications.

These priorities are:

Invitational Priority 1. Applications that focus on the development of bridge or articulation programs that target pre-freshmen entering into the science, technology, engineering, or mathematics (STEM) fields.

Invitational Priority 2. Applications that focus directly on student learning and encourage and facilitate implementation of pedagogical approaches that have been proven effective in increasing student retention and achievement in STEM fields.

Invitational Priority 3. Applications that focus on mentoring programs designed to increase the number of underrepresented students who graduate with STEM undergraduate degrees.

Program Authority: 20 U.S.C. 1067-1067k.

Applicable Regulations: (a) The Education Department General Administrative Regulations (EDGAR) in 34 CFR parts 74, 75, 77, 79, 82, 84, 85, 86, 97, 98, and 99. (b) The regulations for this program in 34 CFR part 637.

Note: The regulations in 34 CFR part 86 apply to institutions of higher education only.

II. Award Information

Type of Award: Discretionary grants.

Estimated Available Funds: $2,907,826.

Estimated Range of Awards: Institutional Project Grants: $100,000-$200,000. Special Project Grants: $35,000-$100,000. Cooperative Project Grants: $135,000-$300,000.

Estimated Average Size of Awards: Institutional Project Grants: $150,000. Special Project Grants: $75,000. Cooperative Project Grants: $220,000.

Maximum Awards: Institutional Project Grants: $200,000. Special Project Grants: $100,000. Cooperative Project Grants: $300,000. For each type of grant, we will not fund any application at an amount exceeding the specified maximum amount for a single budget period of 12 months. We may choose not to further consider or review applications with budgets that exceed the maximum amounts if we conclude, during our initial review of the application, that the proposed goals and objectives cannot be obtained with the specified maximum amount. The Assistant Secretary for Postsecondary Education may change the maximum amounts through a notice published in the Federal Register.

Estimated Number of Awards: Institutional Project Grants: nine. Special Project Grants: three. Cooperative Project Grants: four.

Note: The Department is not bound by any estimates in this notice.

Project Period: Up to 36 months.

III. Eligibility Information

1. Eligible Applicants: The eligibility of an applicant is dependent on the type of MSEIP project. There are four types of MSEIP projects: institutional projects, design projects, special projects, and cooperative projects. We will not award Design Project Grants in the FY 2009 competition.

A. For institutional and special projects described in 34 CFR 637.12 through 637.14, eligible applicants include public and private nonprofit minority institutions of higher education as specified in section 361(1) and (2) of the HEA.

B. For special projects described in 34 CFR 637.14(b) and (c), eligible applicants are, in addition to those described in paragraph (A) of this section, nonprofit science-oriented organizations, professional scientific societies, institutions of higher education that award baccalaureate degrees and meet the requirements of section 361(3) of the HEA, and consortia of organizations that meet the requirements of section 361(4) of the HEA.

C. For cooperative projects described in 34 CFR 637.15, eligible applicants are groups of nonprofit accredited colleges and universities whose primary fiscal agent is an eligible minority institution as defined in 34 CFR 637.4(b).

Note: As defined in 34 CFR 637.4(b), a minority institution means an accredited college or university whose enrollment of a single minority group or a combination of minority groups exceeds 50 percent of the total enrollment.

2. Cost Sharing or Matching: This program does not require cost sharing or matching.

IV. Application and Submission Information

1. Address to Request Application Package: You can obtain an application via the Internet using the following address: http://www.grants.gov. If you do not have access to the Internet, please contact Bernadette M. Hence, Yolande Badarou, or Matthew Willis, U.S. Department of Education, 1990 K Street, NW., Washington, DC 20006-8517. Telephone: (202) 502-7777, or by e-mail: bernadette.hence@ed.gov; yolande.badarou@ed.gov; or matthew.willis@ed.gov.

If you use a telecommunications device for the deaf (TDD), call the Federal Relay Service (FRS), toll free, at 1-800-877-8339.

Individuals with disabilities can obtain a copy of the application package in an accessible format (e.g., braille, large print, audiotape, or computer diskette) by contacting the program contact persons listed in this section.

2. Content and Form of Application Submission: Requirements concerning the content of an application, together with the forms you must submit, are in the application package for this program.

Page Limit: The application narrative is where you, the applicant, address the selection criteria that reviewers use to evaluate your application. We have established a mandatory page limit for the narrative portion for each type of project application. The page limits are as follows:

Institutional Project Grant Application: 40 pages.

Special Project Grant Application: 35 pages.

Cooperative Project Grant Application: 50 pages.

You must limit the application narrative (Part III) to the equivalent of no more than these page limits, using the following standards:

• A “page” is 8.5″ x 11″, on one side only, with 1″ margins at the top, bottom, and both sides. Page numbers and a document identifier may be within the 1” margin.

• Double space (no more than three lines per vertical inch) all text in the application narrative, except titles, headings, footnotes, quotations, references, captions, and all text in charts, tables, and graphs. These items may be single spaced; however, they will count toward the page limit.

• Use a font that is either 12 point or larger, or no smaller than 10 pitch (characters per inch).

• Use one of the following fonts: Times New Roman, Courier, Courier New, or Arial. An application submitted in any other font (including Times Roman or Arial Narrow) will not be accepted.

The page limit does not apply to Part I, the cover sheet; Part II, the budget information summary form (ED 524); or Part IV, the assurances and certifications. The page limit also does not apply to an abstract, the table of contents, the MSEIP Eligibility Certification Form, one letter of commitment, and evidence of partnerships. If you include any attachments or appendices not specifically requested, these items will be counted as part of the application narrative (Part III) for purposes of the page limit requirement. You must include your complete responses to the selection criteria in the application narrative.

We will reject your application if you exceed the page limit or if you apply other standards and exceed the equivalent of the page limit. We will also reject your application if you fail to provide the MSEIP Eligibility Certification Form.

3. Submission Dates and Times:

Applications Available: April 1, 2009.

Deadline for Transmittal of Applications: May 1, 2009.

Applications for grants under this program must be submitted electronically using the Grants.gov Apply site (Grants.gov). For information (including dates and times) about how to submit your application electronically, or in paper format by mail or hand delivery if you qualify for an exception to the electronic submission requirement, please refer to section IV. 6. Other Submission Requirements of this notice.

We do not consider an application that does not comply with the deadline requirements.

Individuals with disabilities who need an accommodation or auxiliary aid in connection with the application process should contact the persons listed under FOR FURTHER INFORMATION CONTACT in section VII of this notice. If the Department provides an accommodation or auxiliary aid to an individual with a disability in connection with the application process, the individual's application remains subject to all other requirements and limitations in this notice.

Deadline for Intergovernmental Review: June 30, 2009.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program must be submitted electronically unless you qualify for an exception to this requirement in accordance with the instructions in this section.

a. Electronic Submission of Applications.

Applications for grants under the Minority Science and Engineering Improvement Program (MSEIP), CFDA number 84.120A, must be submitted electronically using the Governmentwide Grants.gov Apply site at www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for MSEIP at http://www.Grants.gov. You must search for the downloadable application package for this program by the CFDA number. Do not include the CFDA number's alpha suffix in your search (e.g., search for 84.120, not 84.120A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications.

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the persons listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Karen W. Johnson, U.S. Department of Education, 1990 K Street, NW., room 6032, Washington, DC 20006-8517. FAX: (202) 502-7861.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.120A) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.120A) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 637.32(a) through (j), and are as follows:

(a) Identification of need for the project (Total 10 points).

(b) Plan of operation (Total 15 points).

(c) Quality of key personnel (Total 5 points).

(d) Budget and cost effectiveness (Total 5 points).

(e) Evaluation plan (Total 10 points).

(f) Adequacy of resources (Total 5 points).

(g) Potential institutional impact of the project (Total 10 points).

(h) Institutional commitment to the project (Total 10 points).

(i) Expected Outcomes (Total 15 points).

(j) Scientific and educational value of the proposed project (Total 15 points).

Applicants must address each of the selection criteria. The total weight of the selection criteria is 100 points; the weight of each criterion is noted in parentheses.

2. Review and Selection Process: Additional factors we consider in selecting an application for an award are in 34 CFR 75.217.

Tiebreaker for Institutional Project Grants, Special Project Grants, and Cooperative Project Grants. If there are insufficient funds for all applications with the same total scores, applications will receive preference in the following order: first, applications that satisfy the requirement of Competitive Preference Priority 1; second, applications that satisfy the requirements of both Competitive Preference Priority 2 and Competitive Preference Priority 3; and third, applications that satisfy the requirements of Competitive Preference Priority 2.

VI. Award Administration Information

1. Award Notices: If your application is successful, we will notify your U.S. Representative and U.S. Senators and send you a Grant Award Notification (GAN). We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established the following key performance measures for assessing the effectiveness of the MSEIP program: (1) The percentage change in the number of full-time, degree-seeking minority undergraduate students at grantee institutions enrolled in the fields of engineering or physical or biological sciences, compared to the average minority enrollment in the same fields in the three-year period immediately prior to the beginning of the current grant; (2) the percentage of full-time undergraduate minority students who were in their first year of postsecondary enrollment in the previous year and are enrolled in the current year at the same institution in the fields of engineering or physical or biological sciences; and (3)(a) in four-year grantee institutions, the percentage of minority students who enrolled in the fields of engineering or physical or biological sciences who graduate within six years of enrollment; or (b) in two-year grantee institutions, the percentage of minority students enrolled in the fields of engineering or physical or biological sciences who graduate within three years of enrollment.

VII. Agency Contacts

For Further Information Contact: Bernadette M. Hence, Yolande Badarou, or Matthew Willis, U.S. Department of Education, 1990 K Street, NW., Washington, DC 20006-8517. Telephone: (202) 502-7777 or by e-mail: bernadette.hence@ed.gov; yolande.badarou@ed.gov; or matthew.willis@ed.gov.

If you use a TDD, call the FRS, toll free, at 1-800-877-8339.

VIII. Other Information

Accessible Format: Individuals with disabilities can obtain this document and a copy of the application package in an accessible format (e.g., braille, large print, audiotape, or computer diskette) on request to the program contact persons listed under FOR FURTHER INFORMATION CONTACT in section VII of this notice.

Electronic Access to This Document: You can view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions of the Assistant Secretary for Postsecondary Education.

Dated: March 27, 2009.
Daniel T. Madzelan,
Director, Forecasting and Policy Analysis.

[FR Doc. E9-7306 Filed 3-31-09; 8:45 am]

BILLING CODE 4000-01-P